DEPARTMENT OF EDUCATION

Submission for OMB Review; Comment Request

AGENCY: Department of Education.

ACTION: Correction Notice.

SUMMARY: On November 5, 2007, the Department of Education published a comment period notice in the Federal Register (Page 62446, Column 2) for the information collection, “Online and Distance Education Courses at Postsecondary Institutions.” The title of the notice is hereby corrected to “After School Programs at Public Elementary Schools.”

The IC Clearance Official, Regulatory Information Management Services, Office of Management, hereby issues a correction notice as required by the Paperwork Reduction Act of 1995.

Dated: November 5, 2007.
Angela C. Arrington,
IC Clearance Official, Regulatory Information Management Services, Office of Management.

[FR Doc. E7-22085 Filed 11-9-07; 8:45 am]

BILLING CODE 4000-01-P